DEPARTMENT OF ENERGY

Federal Energy Regulatory Commission

[Project No. 2790-055]

Boott Hydropower, Inc.; Notice of Consulting Parties and Agenda for Section 106 Consultation Meeting

On May 4, 2012, the Federal Energy Regulatory Commission (Commission) issued notice of a section 106 consultation meeting, to be held in Lowell, Massachusetts on May 24, 2012, to address historic preservation issues for the proposed license amendment application for the Lowell Hydroelectric Project No. 2790. Pursuant to section 106 of the National Historic Preservation Act and implementing regulations of the Advisory Council on Historic Preservation, the following are consulting parties for participation in the section 106 consultation meeting: Commission staff, Massachusetts State Historic Preservation Officer, Advisory Council on Historic Preservation, U.S. Department of the Interior, National Park Service, City of Lowell, and Boott Hydropower, Inc. and the Eldred L. Field Hydroelectric Facility Trust (co-licensees for the Lowell Hydroelectric Project). A copy of the agenda for the meeting is attached.

On September 21, 2011, the Pawtucketville Citizens Council filed a request to be a consulting party for the section 106 consultation process in this proceeding. This request is denied. The Commission involves the public and provides opportunities for public comment on historic preservation matters during its licensing and amendment proceedings, and through its environmental review process pursuant to the National Environmental Policy Act. The Commission also allows interested members of the public to file comments on the section 106 process.

Dated: May 18, 2012.
Nathaniel J. Davis, Sr.,
Deputy Secretary.

[FR Doc. 2012-12708 Filed 5-24-12; 8:45 am]

BILLING CODE 6717-01-P